DEPARTMENT OF ENERGY

Federal Energy Regulatory Commission

Combined Notice of Filings #1

Take notice that the Commission received the following electric rate filings:

Docket Numbers: ER96-1947-029; ER07-1000-008.

Applicants: Las Vegas Power Company, LLC, Griffith Energy LLC, LS Power Marketing, LLC.

Description: Third Supplement to Updated Market Power Analysis of LS Power Marketing, LLC, et al.

Filed Date: 1/17/12.

Accession Number: 20120117-5145.

Comments Due: 5 p.m. ET 3/22/12.

Docket Numbers: ER10-2819-001.

Applicants: ALLETE, Inc.

Description: Allete, Inc submits reformatted seasonal Simultaneous Import Limit Studies-Triennial Market Power Analysis.

Filed Date: 2/17/12.

Accession Number: 20120221-0004.

Comments Due: 5 p.m. ET 3/22/12.

Docket Numbers: ER12-502-001.

Applicants: California Independent System Operator Corporation.

Description: 2012-02-29 CAISO's GIP Phase 2 Compliance Filing to be effective 1/31/2012.

Filed Date: 2/29/12.

Accession Number: 20120229-5161.

Comments Due: 5 p.m. ET 3/21/12.

Docket Numbers: ER12-1173-000.

Applicants: PJM Interconnection, L.L.C., American Electric Power Service Corporation.

Description: AEP submits Indiana Michigan Power Co. FRR Capacity Formula Rate Filing to be effective 5/1/2012.

Filed Date: 2/29/12.

Accession Number: 20120229-5072.

Comments Due: 5 p.m. ET 3/21/12.

Docket Numbers: ER12-1176-000.

Applicants: Midwest Independent Transmission System Operator, Inc.

Description: 02-29-12 Schedule 38 to be effective 1/1/2012.

Filed Date: 2/29/12.

Accession Number: 20120229-5131.

Comments Due: 5 p.m. ET 3/21/12.

Docket Numbers: ER12-1177-000.

Applicants: PJM Interconnection, L.L.C.

Description: Revisions to the PJM Tariff re Interconnection Queue Reforms to be effective 5/1/2012.

Filed Date: 2/29/12.

Accession Number: 20120229-5135.

Comments Due: 5 p.m. ET 3/21/12.

Docket Numbers: ER12-1178-000.

Applicants: PJM Interconnection, L.L.C.

Description: Revisions to the OA Definitions and OA Schedule 6.1.2 through 6.1.6 to be effective 5/1/2012.

Filed Date: 2/29/12.

Accession Number: 20120229-5136.

Comments Due: 5 p.m. ET 3/21/12.

Docket Numbers: ER12-1179-000.

Applicants: Southwest Power Pool, Inc.

Description: Integrated Marketplace to be effective 3/1/2014.

Filed Date: 2/29/12.

Accession Number: 20120229-5216.

Comments Due: 5 p.m. ET 3/30/12.

Docket Numbers: ER12-1180-000.

Applicants: Black Hills Power, Inc.

Description: Service Agreement to be effective 4/1/2012.

Filed Date: 2/29/12.

Accession Number: 20120229-5223.

Comments Due: 5 p.m. ET 3/21/12.

Docket Numbers: ER12-1181-000.

Applicants: El Paso Electric Company.

Description: Revision to OATT Attachment M to be effective 3/1/2012.

Filed Date: 2/29/12.

Accession Number: 20120229-5229.

Comments Due: 5 p.m. ET 3/21/12.

Docket Numbers: ER12-1182-000.

Applicants: Pacific Gas and Electric Company.

Description: Clean Energy Generator Interconnection and WDT Service Agreements to be effective 4/28/2010.

Filed Date: 2/29/12.

Accession Number: 20120229-5248.

Comments Due: 5 p.m. ET 3/21/12.

Docket Numbers: ER12-1183-000.

Applicants: UGI Development Company.

Description: UGI Development Reactive Supply and Voltage Control-Hunlock to be effective 3/1/2012.

Filed Date: 2/29/12.

Accession Number: 20120229-5253.

Comments Due: 5 p.m. ET 3/21/12.

Docket Numbers: ER12-1184-000.

Applicants: New England Power Pool Participants Committee.

Description: Mar 2012 Membership Filing to be effective 2/1/2012.

Filed Date: 2/29/12.

Accession Number: 20120229-5261.

Comments Due: 5 p.m. ET 3/21/12.

Docket Numbers: ER12-1185-000.

Applicants: Midwest Independent Transmission System Operator, Inc.

Description: 03-01-12 Demand Curves Filing to be effective 5/1/2012.

Filed Date: 3/1/12.

Accession Number: 20120301-5004.

Comments Due: 5 p.m. ET 3/22/12.

Docket Numbers: ER12-1186-000.

Applicants: Pacific Gas and Electric Company.

Description: Guernsey Solar Station WDT SGIA to be effective 3/1/20120.

Filed Date: 3/1/12.

Accession Number: 20120301-5006.

Comments Due: 5 p.m. ET 3/22/12.

Docket Numbers: ER12-1187-000.

Applicants: UGI Development Company.

Description: UGI Development Company Notice of Cancellation.

Filed Date: 2/29/12.

Accession Number: 20120229-5312.

Comments Due: 5 p.m. ET 3/21/12.

Take notice that the Commission received the following land acquisition reports:

Docket Numbers: LA11-4-000.

Applicants: Exelon Corporation, Cassia Gulch Wind Park, LLC, Commonwealth Edison Company, Cow Branch Wind Power, L.L.C., CR Clearing, LLC, Exelon Energy Company, Exelon Framingham LLC, Exelon Generation Company, LLC, Exelon New Boston LLC, Exelon New England Power Marketing, L.P., Exelon West Medway, Exelon Wind 4, LLC, Exelon Wyman LLC, Harvest Windfarm, LLC, Michigan Wind 1, LLC, Michigan Wind 2, LLC, PECO Energy Company, Tuana Springs Energy, LLC, Wind Capital Holdings, LLC.

Description:

Filed Date: 2/29/12.

Accession Number: 20120229-5305.

Comments Due: 5 p.m. ET 3/21/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 1, 2012.
Nathaniel J. Davis, Sr.,
Deputy Secretary.

[FR Doc. 2012-5766 Filed 3-8-12; 8:45 am]

BILLING CODE 6717-01-P